DEPARTMENT OF THE INTERIOR

National Park Service

[NPS-WASO-NRNHL-DTS#-25876; PPWOCRADI0, PCU00RP14.R50000]

National Register of Historic Places; Notification of Pending Nominations and Related Actions

AGENCY: National Park Service, Interior.

ACTION: Notice.

SUMMARY: The National Park Service is soliciting comments on the significance of properties nominated before June 23, 2018, for listing or related actions in the National Register of Historic Places.

DATES: Comments should be submitted by July 24, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 23, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Tuscaloosa County

Kennedy—Foster House, 1842 25th Ave., Tuscaloosa, SG100002717

CONNECTICUT

Middlesex County

Connecticut Valley Hospital Cemetery, S of jct. of Silvermine Rd. & O'Brien Dr., Middletown, SG100002718

FLORIDA

Lee County

Mound House, 451 Connecticut St., Fort Meyers Beach, SG100002723

Leon County

Wahnish Cigar Factory and Tobacco Warehouse, 469 St. Francis Street, Tallahassee, SG100002725

Manatee County

Duette School, 40755 FL 62, Parrish vicinity, SG100002726

Osceola County

St. Cloud Depot (Florida's Historic Railroad Resources MPS), 915 New York Avenue, St. Cloud, MP100002728

ILLINOIS

Randolph County

Nisbet, Hugh B. House, 340 E Buena Vista, Chester, SG100002731

MASSACHUSETTS

Plymouth County

Leonard. Shaw & Dean Shoe Factory, 151 Peirce St., Middleborough, SG100002733

Suffolk County

Columbia Road—Strathcona Road Historic District, 90-94,102-108, 105-111, 129-135, 137, 143-147, 150-156 Columbia & 16 Strathcona Rds., 114-126 Washington St., Boston, SG100002734

NEW YORK

Erie County

Buffalo Public School No. 44 (PS44), 1369 Broadway, Buffalo, SG100002735

Buffalo Public School No. 57 (PS 57), 243 Sears St., Buffalo, SG100002736

Faith Missionary Baptist Church, 626 Humboldt Pkwy, Buffalo, SG100002737

St. Stephen's Roman Catholic Church Complex, 169-193 Elk St., Buffalo, SG100002738

Monroe County

Wollensack Optical Company Building, 872 Hudson Ave., Rochester, SG100002739

Nassau County

Pine Hollow Cemetery, Pine Hollow Rd., Oyster Bay, SG100002740

Richmond County

Immanuel Union Church, 693 Jewett Ave., Staten Island, SG100002742

Suffolk County

Amagansett U.S. Life-Saving and Coast Guard Station (U.S. Government Lifesaving Stations MPS), 160 Atlantic Ave., Amagansett, MP100002743

Wardenclyffe Laboratory, 56 NY 25A, Shoreham, SG100002744

Ulster County

Fuller Shirt Company Factory, 45 Pine Grove Ave., Kingston, SG100002745

TENNESSEE

Coffee County

Smotherman House (Tullahoma MPS), 211 W Blackwell St., Tullahoma, MP100002747

Tullahoma Municipal Building (Tullahoma MPS), 201 W Grundy St., Tullahoma, MP100002748

Gibson County

Booker T. Motel, 607 W Main St., Humboldt, SG100002750

Haywood County

Brownsville Carnegie Library (Brownsville, Tennessee MPS), 121 W Main St., Brownsville, MP100002752

Jackson County

Carverdale Farms, 112 Harris Hollow Rd., Granville, SG100002754

Shelby County

American Snuff Company Historic District, 46 Keel Ave., 700 N Front & 701 N Main Sts., Memphis, SG100002755

National Trust Life Insurance Company Building, 2701 Union Ave. Extended, Memphis, SG100002756

TEXAS

Calhoun County

La Salle Monument (Monuments and Buildings of the Texas Centennial MPS), TX 316 at Blind Bayou, Indianola, MP100002757

Refugio County

Amon B. King's Men Monument (Monuments and Buildings of the Texas Centennial MPS), 807 Commerce St., King's Memorial Park, Refugio, MP100002758

Mission Nuestra Senora del Refugio Monument (Monuments and Buildings of the Texas Centennial MPS), 1008 S Alamo St., Refugio, MP100002759

Victoria County

Victoria County Monument (Monuments and Buildings of the Texas Centennial MPS), 402 N DeLeon St., Memorial Square Park, Victoria, MP100002760

WISCONSIN

Brown County

Greiling, Herman and Lillian, House, 2568 S Webster Ave., Allouez, SG100002761

A request for removal has been made for the following resources:

FLORIDA

Dade County

Greenwald, I. and E., Steam Engine No. 1058, 3898 Shipping Ave., Miami, OT87002197

Algonquin Apartments (Downtown Miami MRA), 1819—1825 Biscayne Blvd., Miami, OT88002985

Priscilla Apartments (Downtown Miami MRA), 318—320 NE 19th St. and 1845 Biscayne Blvd., Miami, OT88002986

Lake County

Fruitland Park Community Center, 604 W. Berckman St., Fruitland Park, OT15000508

Leon County

Works Progress Administration Building (Florida's New Deal Resources MPS), 319 East Gaines Street, Tallahassee, OT100002025

Sarasota County

Atlantic Coast Line Passenger Depot (Sarasota MRA), 1 S. School Ave., Sarasota, OT84000957

TENNESSEE

Giles County

Noblit—Lytle, House, 1311 Sugar Creek Rd., Minor Hill vicinity, OT08000734

Haywood County

Cedar Grove, W of Brownsville, Brownsville vicinity, OT80003833

Additional documentation has been received for the following resources:

FLORIDA

Leon County

Grove, The, 100 W 1st Ave., Tallahassee, AD72000335

NEW YORK

Oswego County

Fort Ontario, 1 E 4th St., Oswego vicinity, AD70000426

RHODE ISLAND

Providence County

College Hill Historic District, Roughly bounded by Olney, Canal, S Water, Governor, Williams & Hope Sts., Providence R., & Harbor, Providence, AD70000019

TENNESSEE

Dickson County

Napier, Richard C., House (Iron Industry on the Western Highland Rim 1790s-1920s MPS), Old Hwy. 48, Charlotte vicinity, AD88001110

Authority: Section 60.13 of 36 CFR part 60.

Dated: June 26, 2018.
Julie H. Ernstein,
Acting Chief, National Register of Historic Places/National Historic Landmarks Program, Deputy Keeper of the National Register of Historic Places.

[FR Doc. 2018-14602 Filed 7-6-18; 8:45 am]

BILLING CODE 4312-52-P